DEPARTMENT OF COMMERCE

Foreign-Trade Zones Board

Electronic Submission of Applications

AGENCY: Foreign-Trade Zones Board, International Trade Administration, Department of Commerce.

ACTION: Transition to solely electronic submission of applications.

SUMMARY: Pursuant to 15 CFR 400.21(i), applications to the Foreign-Trade Zones Board henceforth should be submitted solely in electronic form via email to ftz@trade.gov.

DATES: May 6, 2019.

FOR FURTHER INFORMATION CONTACT: Staff, Foreign-Trade Zones Board, International Trade Administration, U.S. Department of Commerce, 1401 Constitution Avenue NW, Room 21013, Washington, DC 20230, ftz@trade.gov or (202) 482-2862.

SUPPLEMENTARY INFORMATION: Additional information is available on the Foreign-Trade Zone Board's website, which is accessible via www.trade.gov/ftz.

On February 28, 2012, the Foreign-Trade Zones (FTZ) Board published a notice in the Federal Register that revised its regulations issued pursuant to the FTZ Act of 1934, as amended, concerning the authorization and regulation of foreign-trade zones and zone activity in the United States.¹ Section 400.21 of the revised regulations established general requirements for applications to the FTZ Board. Paragraph (i) of section 400.21 provides that, “{u}nless the Executive Secretary alters the requirements of this paragraph, the applicant shall submit an original (including original documents to meet the requirements of paragraphs (c) and (d)(1)(iii) of this section) and one copy of the application, both on 8½ × 11 (216 × 279 mm) paper, and an electronic copy.” Pursuant to 15 CFR 400.21(i), to reduce the burden on applicants and to facilitate a full transition to an electronic application process, applications to the FTZ Board henceforth should be submitted solely in electronic form via email to ftz@trade.gov.

¹ See Foreign-Trade Zones in the United States, 77 FR 12112 (February 28, 2012).

Dated: May 1, 2019.
Andrew McGilvray,
Executive Secretary.

[FR Doc. 2019-09210 Filed 5-3-19; 8:45 am]

BILLING CODE 3510-DS-P